DEPARTMENT OF COMMERCE

National Institute of Standards and Technology

National Institute of Standards and Technology Performance Review Board Membership

AGENCY: National Institute of Standards and Technology, Department of Commerce.

ACTION: Notice.

SUMMARY: This notice lists the membership of the National Institute of Standards and Technology Performance Review Board (NIST PRB) and supersedes the list published on August 30, 2013.

DATES: The changes to the NIST PRB membership list announced in this notice are effective on September 3, 2014.

FOR FURTHER INFORMATION CONTACT: Didi Hanlein at the National Institute of Standards and Technology, (301) 975-3000 or by email at desiree.hanlein@nist.gov.

SUPPLEMENTARY INFORMATION: The National Institute of Standards and Technology Performance Review Board (NIST PRB or Board) reviews performance appraisals, agreements, and recommended actions pertaining to employees in the Senior Executive Service and ST-3104 employees. The Board makes recommendations to the appropriate appointing authority concerning such matters so as to ensure the fair and equitable treatment of these individuals.

This notice lists the membership of the NIST PRB and supersedes the list published in the Federal Register on August 30, 2013 (78 FR 53729).

NIST PRB Members

Richard Cavanagh (C) (alternate), Director, Special Programs Office, National Institute of Standards & Technology, Gaithersburg, MD 20899, Appointment Expires: 12/31/15.

Richard Kayser, Jr. (C), Chief Safety Officer, National Institute of Standards & Technology, Gaithersburg, MD 20899, Appointment Expires: 12/31/16.

Kevin Kimball (C) (alternate), Chief of Staff, National Institute of Standards & Technology, Gaithersburg, MD 20899, Appointment Expires: 12/31/15.

Laurie Locascio (C), Director, Material Measurement Laboratory, National Institute of Standards & Technology, Gaithersburg, MD 20899, Appointment Expires: 12/31/15.

James Olthoff (C) (alternate), Deputy Director for Measurement Services, National Institute of Standards & Technology, Gaithersburg, MD 20899, Appointment Expires: 12/31/15.

Angela Simpson (NC), Deputy Assistant Secretary, National Telecommunications & Information Administration, Department of Commerce, Washington, DC 20230, Appointment Expires: 12/31/16.

Maureen Wylie (C), Chief Financial Officer, United States Nuclear Regulatory Commission, Washington, DC 20555, Appointment Expires: 12/31/15.

Dated: August 26, 2014.
Mary H. Saunders,
Associate Director for Management Resources.

[FR Doc. 2014-20983 Filed 9-2-14; 8:45 am]

BILLING CODE 3510-13P